DEPARTMENT OF COMMERCE

National Oceanic and Atmospheric Administration

[I.D. 090501A]

Endangered and Threatened Species; Take of Anadromous Fish

AGENCY: National Marine Fisheries Service (NMFS), National Oceanic and Atmospheric Administration (NOAA), Commerce.

ACTION: Notice of availability and request for comment.

SUMMARY: Notice is hereby given that the Oregon Department of Fish and Wildlife (ODFW) has submitted a Fisheries Management and Evaluation Plan (FMEP) pursuant to the protective regulations promulgated for Lower Columbia River (LCR) chum salmon under the Endangered Species Act (ESA). The FMEP specifies the future management of inland fisheries potentially affecting the LCR chum salmon in the State of Oregon. This document serves to notify the public of the availability of the FMEP for review and comment before a final approval or disapproval is made by NMFS.

DATES: Written comments on the draft FMEP must be received at the appropriate address or fax number (see ADDRESSES) no later than 5 p.m. Pacific standard time on October 12, 2001.

ADDRESSES: Written comments and requests for copies of the draft FMEP should be addressed to Richard Turner, Sustainable Fisheries Division, Hatchery and Inland Fisheries Branch, 525 N.E. Oregon Street, Suite 510, Portland, OR 97232 or faxed to 503-872-2737. The documents are also available on the Internet at http://www.nwr.noaa.gov/. Comments will not be accepted if submitted via e-mail or the Internet.

FOR FURTHER INFORMATION CONTACT: Richard Turner, Portland, OR at phone number 503-736-4737 or e-mail: rich.turner@noaa.gov.

SUPPLEMENTARY INFORMATION: This notice is relevant to the Lower Columbia River chum salmon (Oncorhynchus keta) Evolutionarily Significant Unit (ESU).

Background

ODFW has submitted to NMFS an FMEP for inland recreational and commercial fisheries potentially affecting listed adults and juveniles of the LCR chum salmon ESU. These include all freshwater fisheries managed under the sole jurisdiction of the State of Oregon occurring within the boundaries of the LCR chum salmon ESU including the anadromous portions of the Lower Columbia River mainstem and tributaries, from the mouth upstream to Bonneville Dam. The objective of the fisheries is to harvest hatchery-origin salmon and steelhead, and other fish species in a manner that does not jeopardize the survival and recovery of the listed LCR chum salmon ESU. All Oregon tributaries to the Columbia River are closed to the retention of chum salmon but chum salmon may be handled during fisheries for steelhead, salmon and other species in these tributaries. Impact levels to the listed LCR chum salmon ESU are specified in the FMEP. Population risk assessments in the FMEP indicate the extinction risk for the listed ESU under the proposed fishery impact levels to be low. A variety of monitoring and evaluation tasks are specified in the FMEP to assess the abundance of LCR chum salmon, determine fishery effort, and angler compliance. ODFW will annually conduct a population status and a review of the fisheries within the provisions of the FMEP. ODFW will conduct, at a minimum of every 5 years, a comprehensive review to evaluate the effectiveness of the FMEP.

As specified in the July 10, 2000, ESA 4 (d) rule for salmon and steelhead (65 FR 42422), NMFS may approve an FMEP if it meets criteria set forth in § 223.203 (b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4 (d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead 4 (d) rule.

Dated: September 6, 2001.
Phil Williams,
Acting Chief, Endangered Species Division, Office of Protected Resources,, National Marine Fisheries Service.

[FR Doc. 01-22932 Filed 9-11-01; 8:45 am]

BILLING CODE 3510-22-S